DEPARTMENT OF TRANSPORTATION

Federal Highway Administration

Environmental Impact Statement; Nueces County, TX

AGENCY: Federal Highway Administration (FHWA), DOT.

ACTION: Rescind Notice of Intent (NOI) to prepare an EIS.

SUMMARY: FHWA is issuing this notice to advise the public that the NOI to prepare an environmental impact statement (EIS) for proposed improvements to United States Highway 181/State Highway 286 (Crosstown Expressway), in Nueces County, Texas, is being rescinded.

FOR FURTHER INFORMATION CONTACT: Gregory S. Punske, P.E. District Engineer, Federal Highway Administration, Texas Division, 300 East 8th Street, Room 826, Austin, Texas 78701, Telephone (512) 536-5960.

SUPPLEMENTARY INFORMATION: On April 6, 2007, TxDOT and FHWA announced their revised Notice of Intent to prepare an EIS pursuant to 40 CFR 1508.22 and 43 TAC Sec. 2.5 (e) (2) for a proposal to replace the existing US 181 Harbor Bridge and construct improvements to SH 286, in Nueces County, Texas. The project limits were defined as the limits of the schematic design. The project limits were as follows: The northern limit was the US 181 and Beach Avenue interchange located north of the Corpus Christi Ship Channel but south of the Nueces Bay Causeway; the southern limit was the SH 286 and SH 358 (South Padre Island Drive) interchange; the eastern limit was the Interstate Highway (IH) 37/US 181 intersection with Shoreline Boulevard; and the western limit was the IH 37 and Nueces Bay Boulevard interchange. The project limits totaled approximately 7.5 miles in length from north to south along US 181 and SH 286, and 2.1 miles in length from east to west along IH 37. The study limits were defined as the limits of potential impacts from the proposed action. The study limits were as follows: the northern limit was the US 181 and SH 35 interchange just south of Gregory; the southern limit was the SH 286 and SH 358 (South Padre Island Drive) interchange; the eastern limit was Shoreline Boulevard; and the western limit was the IH 37 and SH 358 (North Padre Island Drive) interchange. The EIS was in the preliminary stages of development. Scoping meetings were held for representatives from various cooperating agencies and for the public. The scoping meeting for the representatives from various cooperating agencies was held May 17, 2007, at the TxDOT Corpus Christi District Office in Corpus Christi, Texas. The scoping meeting for the public was held May 17, 2007, at the Oveal Williams Senior Activity Center in Corpus Christi, Texas.

FHWA and TxDOT have decided to rescind the revised Notice of Intent because of changes in the scope (managed toll lanes) and limits. We intend to publish a new NOI in the future, which will describe the new project scope and limits. The review of the project under the new NOI will also comply with the requirements of the Safe, Accountable, Flexible, Efficient Transportation Equity Act: A Legacy for Users (SAFETEA-LU) Section 6002 environmental review process. All 6002 procedures for the proposed project will be followed in the future as the project proceeds with a new scope and limits. Comments or questions concerning the rescission of this proposed action and the EIS should be directed to the FHWA at the address provided above.

(Catalog of Federal Domestic Assistance Program Number 20.205, Highway Research, Planning, and Construction. The regulations implementing Executive Order 12372 regarding intergovernmental consultation on Federal programs and activities apply to this program.)

Issued on: October 27, 2010.
Gregory S. Punske,
District Engineer, Austin, Texas.

[FR Doc. 2010-27719 Filed 11-2-10; 8:45 am]

BILLING CODE 4910-22-P